DEPARTMENT OF HOUSING AND URBAN DEVELOPMENT

[Docket No. FR-7092-N 19; OMB Control No: 2502-0615]

30-Day Notice of Proposed Information Collection: Disaster Response Survey and Disaster Recovery Survey

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: August 6, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on December 11, 2024 at 89 FR 99896.

A. Overview of Information Collection

Title of Information Collection: Disaster Response Survey and Disaster Recovery Survey.

OMB Approval Number: 2502-0615.

Type of Request: Revision of a currently approved collection.

Form Number: None.

Description of the need for the information and proposed use: The two Disaster Surveys (Disaster Response Survey and Disaster Recovery Survey) will assess the operational and capacity status of Housing Counseling Agencies impacted disasters through the life cycle of the disasters. These Surveys are necessary to assess the impact of the disasters on the operation of HUD-approved housing counseling agencies. These surveys will more accurately assess the current operating status and capacity of housing counseling agencies impacted by disasters through the life cycle of disasters. The information collected will be used to identify the needs of the housing counseling agency and to inform OHC about the types of support that would be the most responsive to the needs of agencies and their clients.

Information collection | Number of respondents | Frequency of response | Responses per annum | Burden hour per response | Annual burden hours | Hourly cost per response | Annual cost
Disaster Recovery Survey | 1,250 | 1 | 1,250 | 1 | 1,250 | $64.00 | $80,000.00
Disaster Response Survey | 1,250 | 3 | 3,750 | 1 | 3,750 | 64.00 | 240,000.00
Total |  |  | 5,000 |  | 5,000 |  | 320,000.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-12589 Filed 7-3-25; 8:45 am]

BILLING CODE 4210-67-P